GENERAL SERVICES ADMINISTRATION

41 CFR Parts 300-3, 301-10, 301-12, 301-30, 301-70, Chapter 301, Parts 302-1, 302-2, 302-3, 302-7, 302-11, and 303-70

[FTR Amendment 2010-07; FTR Case 2010-307; Docket 2010-0020, Sequence 1]

RIN 3090-AJ09

Federal Travel Regulation; Removal of Privately Owned Vehicle Rates; Privately Owned Automobile Mileage Reimbursement When Government Owned Automobiles Are Authorized; Miscellaneous Amendments; Correction

AGENCY: Office of Governmentwide Policy, General Services Administration (GSA).

ACTION: Final rule; correction.

SUMMARY: GSA is correcting a final rule that appeared in the Federal Register on November 29, 2010. The applicability date for the final rule was incorrectly designated December 29, 2010. This final rule correction document corrects the applicability date to January 1, 2011.

DATES: The effective date for the final rule published on November 29, 2010 at 75 FR 72965 remains November 29, 2010. The applicability date is corrected to January 1, 2011.

FOR FURTHER INFORMATION CONTACT: The Regulatory Secretariat (MVCB), 1275 First Street, NE., Washington, DC, 20417, (202) 501-4755, for information pertaining to status or publication schedules. For clarification of content, contact Mr. Cy Greenidge, Program Analyst, Office of Governmentwide Policy, at (202) 219-2349. Please cite FTR Amendment 2010-07; FTR case 2010-307.

Dated: December 16, 2010.
James Vogelsinger,
Acting Deputy Associate Administrator, Office of Governmentwide Policy.

[FR Doc. 2010-32128 Filed 12-21-10; 8:45 am]

BILLING CODE 6820-14-P